ENVIRONMENTAL PROTECTION AGENCY

[FRL-9900-77-ORD; Docket ID No. EPA-HQ-ORD-2011-0895]

Draft Research Report: Investigation of Ground Water Contamination Near Pavillion, Wyoming

AGENCY: Environmental Protection Agency (EPA).

ACTION: Notice to discontinue public comment period.

SUMMARY: Following the June 20, 2013, press release, the EPA is discontinuing the public comment period for the external review of the draft research report titled, “Investigation of Ground Water Contamination near Pavillion, Wyoming.” The draft research report was prepared by the National Risk Management Research Laboratory, within the EPA Office of Research and Development, and EPA Region 8. The EPA does not plan to finalize or seek peer review of this draft report.

DATES: The public comment period began December 14, 2011, and ends on the date of this notice.

Additional Information: For information on the docket, www.regulations.gov, or the public comment period, please contact the Office of Environmental Information (OEI) Docket (Mail Code: 2822T), U.S. Environmental Protection Agency, 1200 Pennsylvania Ave. NW., Washington, DC 20460; telephone: 202-566-1752; facsimile: 202-566-1753; or email: ORD.Docket@epa.gov.

For information on the draft report, please contact Rebecca Foster, U.S. Environmental Protection Agency, P.O. Box 1198, Ada, OK 74821; telephone: 580-436-8750; facsimile: 580-436-8529; or email: foster.rebecca@epa.gov.

SUPPLEMENTARY INFORMATION: All documents in the docket are listed in the http://www.regulations.gov index. Although listed in the index, some information is not publicly available, e.g., CBI or other information whose disclosure is restricted by statute. Certain other material, such as copyrighted material, will be publicly available only in hard copy. Publicly available docket materials are available either electronically at http://www.regulations.gov or in hard copy at the OEI Docket in the EPA Headquarters Docket Center.

Lek Kadeli,
Principal Deputy Assistant Administrator, Office of Research and Development.

[FR Doc. 2013-22114 Filed 9-10-13; 8:45 am]

BILLING CODE 6560-50-P